OFFICE OF SPECIAL COUNSEL

[OMB Control No. 3255-0005]

Request for Emergency Processing of Revised Information Collection

AGENCY: U.S. Office of Special Counsel.

ACTION: Notice.

SUMMARY: The U.S. Office of Special Counsel asked the Office of Management and Budget's Office of Information and Regulatory Affairs for emergency processing of an updated, consolidated complaint and disclosure form, Form 14, to be used for filing prohibited personnel practice and Hatch Act complaints and to make disclosures.

DATES: OSC requested that OMB complete emergency processing of its updated information collection of the revised Form 14, by July 26, 2019. The final rule authorizing the use of Form 14 goes into effect August 26, 2019.

FOR FURTHER INFORMATION CONTACT: Susan K. Ullman, General Counsel, U.S. Office of Special Counsel, by telephone at 202-804-7000, or by email at sullman@osc.gov.

SUPPLEMENTARY INFORMATION: OSC received OMB's approval of the prior Form 14 (OMB Control # 3255-0005) on September 28, 2017. OSC requests emergency processing of the updated Form 14. The final rule authorizing the use of Form 14 is effective August 26, 2019.

Dated: July 23, 2019.
Bruce Gipe,
Chief Operating Officer.

[FR Doc. 2019-15974 Filed 7-26-19; 8:45 am]

BILLING CODE 7405-01-P